ARCHITECTURAL AND TRANSPORTATION BARRIERS COMPLIANCE BOARD

36 CFR Part 1195

RIN 3014-AA22

Passenger Vessel Emergency Alarms Advisory Committee

AGENCY: Architectural and Transportation Barriers Compliance Board.

ACTION: Notice of meeting.

SUMMARY: The Architectural and Transportation Barriers Compliance Board (Access Board) has established an advisory committee to make recommendations on issues related to the effectiveness of emergency alarm systems for individuals with hearing loss or deafness on passenger vessels. This notice announces the dates, time, and location of the next committee meeting.

DATES: The meeting is scheduled for February 12 and 13, 2008 from 9 a.m. to 5 p.m. on both days.

ADDRESSES: The meeting will be held at the Access Board's offices, 1331 F Street, NW., Suite 100, Washington, DC.

FOR FURTHER INFORMATION CONTACT: Paul Beatty, Office of Technical and Information Services, Architectural and Transportation Barriers Compliance Board, 1331 F Street, NW., Suite 1000, Washington, DC 20004-1111. Telephone number (202) 272-0012 (Voice); (202) 272-0082 (TTY). These are not toll-free numbers. E-mail address: pvag@access-board.gov.

SUPPLEMENTARY INFORMATION: On August 13, 2007, the Architectural and Transportation Barriers Compliance Board (Access Board) established an advisory committee to make recommendations on issues related to the effectiveness of emergency alarm systems for individuals with hearing loss or deafness on passenger vessels. (72 FR 45200; August 13, 2007). The next meeting of the committee will take place on February 12 and 13, 2008. The preliminary meeting agenda, along with information about the committee, is available at the Access Board's Web site (http://www.access-board.gov/pvaac/alarms/).

Committee meetings are open to the public and interested persons can attend the meetings and communicate their views. Members of the public will have opportunities to address the committee on issues of interest to them during public comment periods scheduled on each day of the meeting. Additionally, all interested persons will have the opportunity to comment when proposed rules regarding passenger vessel accessibility are issued in the Federal Register by the Access Board.

The meeting site is accessible to individuals with disabilities. Sign language interpreters, an assistive listening system, and computer assisted real-time transcription (CART) will be provided. Persons attending the meeting are requested to refrain from using perfume, cologne, and other fragrances for the comfort of other participants.

Lawrence W. Roffee,
Executive Director.

[FR Doc. 08-103 Filed 1-11-08; 8:45 am]

BILLING CODE 8150-01-M